DEPARTMENT OF THE INTERIOR

[ES-930-08-1320-00-241A: WVES 50816]

Notice of Exploration License Application

AGENCY: Bureau of Land Management, Interior.

ACTION: Notice.

SUMMARY: Pen Coal Corporation has filed application WVES 50816 for an Exploration License for lands in Wayne County, West Virginia.

This is a notice of invitation, pursuant to 43 Code of Federal Regulations 3410.2-1(c), to participate in the exploration the following lands on a prorata cost-sharing basis, in which the coal deposits have been reserved by the United States of America:

A portion of the East Lynn Lake Reservoir Project, Real Estate Segments 7, 8, 11, 12, 13, 16, 17, 18, 20, 21, 22, 24, 25, 26, 27 and 29, located on the East Fork of Twelvepole Creek, near East Lynn, Wayne County, West Virginia, containing 7,639.63 acres more or less.

Anyone wishing to participate in this exploration license, should contact Monte Hieb, Manager of Engineering, Pen Coal Corporation, P.O. Box 191, Dunlow, West Virginia 25511, Telephone: (304) 385-4664 or contact the Bureau of Land Management, Eastern States, 7450 Boston Boulevard, Springfield, Virginia 22153, Telephone: (703) 440-1527.

FOR FURTHER INFORMATION CONTACT: Ida V. Doup, Chief, Branch of Use Authorization, Division of Resources Planning, Use and Protection, BLM Eastern States, 7450 Boston Boulevard, Springfield, Virginia 22153, (703) 440-1541, or Vince Vogt, Rolla Assistant Field Manager (700) 751-0203.

Dated: March 19, 2001.
Walter Rewinski,
Deputy State Director, Division of Resources Planning, Use and Protection.

[FR Doc. 01-7804 Filed 3-28-01; 8:45 am]

BILLING CODE 4310-65-M